DEPARTMENT OF AGRICULTURE

[FR Doc. 2011-25814]

Privacy Act of 1974: Notice of Proposed Privacy Act System of Records Revision; Correction

AGENCY: Office of Homeland Security and Emergency Coordination, Departmental Management, U.S. Department of Agriculture.

ACTION: Notice Correction.

SUMMARY: The U.S. Department of Agriculture (USDA), Departmental Management (DM), Office of Homeland Security and Emergency Coordination (OHSEC), published in the Federal Register on October 6, 2011, a notice of the proposed Radiation Safety Management System (RSMS). The notice is being corrected to provide the location of the system and paper records.

Correction

In the Federal Register of October 6, 2011 (76 FR 62035), please make the following corrections:

Under the USDA/OHSEC-1 heading in the first column of page 62036, under the System Location heading under the first column, first paragraph, second line, replace “Departmental Administration Report (DA)” with “Enterprise Local Area Network (ENTLAN).” On the fifth line, replace “___?” with “in Beltsville, MD.”

Dated: June 13, 2012.
Thomas J. Vilsack,
Secretary.

[FR Doc. 2012-15045 Filed 6-21-12; 8:45 am]

BILLING CODE 3412-BA-P